DEPARTMENT OF TRANSPORTATION

Federal Railroad Administration

Petition for Waiver of Compliance

In accordance with title 49 CFR 211.9 and 211.41, notice is hereby given that the Florida East Coast Railway, L.L.C. (FEC) has petitioned the Federal Railroad Administration (FRA) for renewal of its existing exemption for a waiver of compliance with a requirement of its safety standards. The FEC petition is described below, including the regulatory provisions involved, and the nature of the relief being requested.

Florida East Coast Railway, L.L.C. (FEC)

[Docket Number FRA-2004-19391]

FEC requests a renewal of its existing waiver (FRA Docket Number HS-98-02) to continue the use of their “Paperless Time Ticket Program” to produce an electronic record of train and engine employee hours of duty in lieu of manually signed paper records.

The existing FEC waiver, which expires in February 4, 2005, grants relief from Title 49 Code of Federal Regulations (CFR) Part 228.9(a)(1) for the railroad to utilize its computerized system of recording hours of duty data. Part 228.9(a)(1) requires that records maintained under Part 228 be signed by the employee whose time is being recorded, or in the case of train and engine crews, signed by the ranking crew member. The FEC seeks to utilize its secure computerized program of recording hours of duty information which would not comply with the above requirements for a “signature” of the employee or ranking crew member without renewed waiver authority. In the current FEC waiver approved program, each of the railroad's train and engine employees has his or her own unique identification number and personal identification number (PIN). The PIN will remain confidential to the employee. When accessing the computer for input of the hours of duty record, required by § 228.11, the (PIN) does not appear on the computer screen when the employee enters his or her number. All data entered under access gained through use of the confidential PIN will be electronically stamped with the entering employee's name along with the date and time of entry. The program will display the entering employee's electronic signature, date and time of entry on the employee's hours of duty record. The FEC requests that the existing waiver authority be continued to use the electronic stamp to satisfy the signature requirements of the “Hours of Service of Railroad Employees.” The railroad maintains that the renewal is in the best interests of all parties, in that, it will continue to reduce unnecessary paperwork and the costs associated therewith while providing the railroads, its employees and the FRA with a superior level of information on a more timely than signed paper records.

Interested parties are invited to participate in these proceedings by submitting written views, data or comments. FRA does not anticipate scheduling a public hearing in connection with these proceedings since the facts do not appear to warrant a hearing. If any interested party desires an opportunity for oral comment, they should notify FRA, in writing, before the end of the comment period and specify the basis of their request.

All communications concerning these proceedings should identify the appropriate docket number (FRA-2004-19391) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on November 1, 2004.
Grady C. Cothen, Jr.,
Acting Associate Administrator for Safety.

[FR Doc. 04-24769 Filed 11-4-04; 8:45 am]

BILLING CODE 4910-06-P